DEPARTMENT OF COMMERCE

International Trade Administration

[A-570-870]

Notice of Postponement of Preliminary Antidumping Duty Determination: Certain Circular Welded Carbon-Quality Steel Pipe From the People's Republic of China

AGENCY: Import Administration, International Trade Administration, Department of Commerce.

ACTION: Notice of postponement of preliminary determination of antidumping duty investigation.

SUMMARY: The Department of Commerce (“the Department”) is extending the time limit for the preliminary determination of the investigation of certain circular welded carbon-quality steel pipe from the People's Republic of China (“China”).

EFFECTIVE DATES: October 26, 2001.

FOR FURTHER INFORMATION CONTACT: Robert Bolling, Import Administration, International Trade Administration, U.S. Department of Commerce, 14th Street and Constitution Avenue, NW., Washington, DC 20230; telephone: (202) 482-3434.

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to the regulations codified at 19 CFR part 351 (2000).

Postponement of Determination Results

The Department has determined that this case is extraordinarily complicated and additional time beyond the current October 31, 2001, deadline is necessary to make the preliminary determination. See Decision Memorandum from Joseph A. Spetrini, Deputy Assistant Secretary, Enforcement Group III to Faryar Shirzad, Assistant Secretary for Import Administration, October 17, 2001. The Department is postponing the preliminary determination until 190 days after initiation in accordance with section 733(c)(1)(B) of the Act.

The deadline for the final determination will continue to be 75 days after the date of the preliminary determination.

Dated: October 18, 2001.
Faryar Shirzad,
Assistant Secretary for Import Administration.

[FR Doc. 01-26938 Filed 10-25-01; 8:45 am]

BILLING CODE 3510-DS-P